DEPARTMENT OF THE TREASURY

Customs Service

Solicitation of Applications for Membership on Customs Cobra Fees Advisory Committee

AGENCY: U.S. Customs Service, Department of the Treasury.

ACTION: General notice; amendment; extension of application period.

SUMMARY: By a document published in the Federal Register on June 22, 2000, Customs set forth criteria for membership on the Customs COBRA Fees Advisory Committee and requested that applications be submitted for membership on the committee. This document presents amended criteria for membership on the committee, and extends the time within which applications for membership may be made. Customs is broadening the criteria governing the selection of members to serve on the committee in order to afford a greater pool of eligible applicants from which members may be selected for participation.

DATES: Applications for membership will be accepted until January 22, 2001.

ADDRESSES: Applications should be addressed to Richard Coleman, Trade Compliance Team, U.S. Customs Service, 1300 Pennsylvania Avenue, NW., Room 5.2-A, Washington, D.C. 20229, Attention: COBRA 2000.

FOR FURTHER INFORMATION CONTACT: Richard Coleman, Trade Compliance Team, U.S. Customs Service, 202-927-0563.

SUPPLEMENTARY INFORMATION:

Background

By a document published in the Federal Register (65 FR 38884) on June 22, 2000, Customs set forth criteria for membership on the Customs COBRA Fees Advisory Committee and requested that applications be submitted for membership on the committee.

In principal part, the criteria contained in the June 22, 2000, Federal Register document limited membership on the committee to one U.S. Customs representative and up to eight parties that were directly subject to the payment of COBRA user fees. These parties included operators of: railways, trucks, barges, commercial cargo vessels, commercial passenger vessels, general aviation, and passenger aircraft. In this regard, it was also stated that, whenever possible, two members would be selected from among passenger aircraft operators and one member each from the other enumerated sectors; additional passenger aircraft operators could be selected if the other sectors did not have a qualified applicant.

Under the June 22, 2000, Federal Register document, applications for membership on the committee were accepted until July 24, 2000.

By this document, Customs is broadening the criteria governing the selection of members to serve on the committee in order to afford a greater pool of eligible applicants from which members may be selected for participation. To this end, an amended charter for the committee will be duly filed. Consequently, Customs is further extending the time within which applications may be made for membership on the committee.

Amended Membership Criteria

While industry membership on the committee remains limited to up to eight parties, such members will now be selected from a cross-section of transportation industry interests that are concerned with COBRA user fees. Membership on the committee is thus no longer restricted to any of those parties described above that directly pay COBRA user fees. In addition to those parties, trade association and similar transportation industry representatives are now eligible for membership on the committee.

It is intended that the composition of the committee will be arrived at in such a way as to create a balanced forum, taking into account a number of factors appropriate to its nature and function. However, there is no longer any specific formula or goal regarding the selection of members from particular sectors of the transportation industry.

In addition, as made clear in the June 22, 2000, Federal Register document, any party who serves on another advisory committee is ineligible for membership on the Customs COBRA Fees Advisory Committee if the other advisory committee is chartered by the Department of the Treasury, including any bureau, service or other office within the Department of the Treasury.

Applications for Membership

As provided in the June 22, 2000, Federal Register document, applicants seeking to serve on the Customs COBRA Fees Advisory Committee must provide the following: a statement of interest and reasons for applying together with a complete professional biography or resume. Applicants must state in their applications that they agree to submit to pre-appointment security and tax checks. There is no prescribed format for the application. For further information on the committee and why it is being created, applicants should refer to the June 22, 2000, Federal Register notice. Applicants may send a cover letter describing their interest and qualifications, along with a resume. Persons who have already submitted applications for membership on the committee pursuant to the June 22, 2000, Federal Register document do not have to resubmit them.

Dated: November 16, 2000.
Raymond W. Kelly,
Commissioner of Customs.

[FR Doc. 00-29803 Filed 11-20-00; 8:45 am]

BILLING CODE 4820-02-P